DEPARTMENT OF HEALTH AND HUMAN SERVICES

Administration for Community Living

Agency Information Collection Activities; Proposed Collection; Comment Request; State Health Insurance Assistance Program Annual Sub-Recipients Report OMB Control Number 0985-0070

AGENCY: Administration for Community Living, HHS.

ACTION: Notice.

SUMMARY: The Administration for Community Living (ACL) is announcing an opportunity for the public to comment on the proposed collection of information listed above. Under the Paperwork Reduction Act of 1995, Federal agencies are required to publish a notice in the Federal Register concerning each proposed collection of information, including each proposed extension of an existing collection of information, and to allow 60 days for public comment in response to the notice. This notice solicits comments on the proposed Extension without change for the information collection requirements related to State Health Insurance Assistance Program Annual Sub-Recipients Report OMB Control Number 0985-0070.

DATES: Comments on the collection of information must be submitted electronically by 11:59 p.m. (EST) or postmarked by December 26, 2023.

ADDRESSES: Submit electronic comments on the collection of information to: Margaret.Flowers@acl.hhs.gov. Submit written comments on the collection of information to Administration for Community Living, 330 C Street SW, Washington, DC 20201, Attention: Margaret Flowers.

FOR FURTHER INFORMATION CONTACT: Margaret.Flowers@acl.hhs.gov, (202) 795-7315.

SUPPLEMENTARY INFORMATION: Under the Paperwork Reduction Act of 1995 (PRA) (44 U.S.C. 3501-3520), Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) ways to enhance the quality, utility, and clarity of the information to be collected;

(3) accuracy of ACL's estimate of the burden of the proposed collection of information, including the validity of the methodology and assumptions used to determine burden estimates;

(4) ways to minimize the burden of the collection of information on respondents, including through the use of automated collection techniques when appropriate, and other forms of information technology.

This information collection gathers sub-award data required from State Health Insurance Assistance Program (SHIP) grantees to provide the amount of federal funds provided annually to each sub-contractor and sub-grantee that are delivering SHIP services. Congress requires this data collection for program monitoring of the SHIP under the Bipartisan Budget Act of 2018, SEC. 50207 (b). Collection of this data allows ACL to communicate with Congress and the public on the SHIP network of agencies. The data collected is electronically posted on the ACL website to educate the network on who the SHIP state sub-recipients are and how much money they are receiving.

The proposed data collection tools may be found on the ACL website for review at https://www.acl.gov/about-acl/public-input.

Estimated Program Burden: ACL estimates the respondent burden hours to prepare and complete all reports associated with this collection will be hours.

Respondent/data collection activity | Number of respondents | Responses per respondent | Hours per response | Annual burden hours
| 54 | 1 | 1 | 54
Total | 54 | 1 | 1 | 54

Dated: October 18, 2023.
Alison Barkoff,
Senior official performing the duties of the Administrator and the Assistant Secretary for Aging.

[FR Doc. 2023-23418 Filed 10-23-23; 8:45 am]

BILLING CODE 4154-01-P